Title 3—

The President

Proclamation 9685 of December 8, 2017

Human Rights Day, Bill of Rights Day, and Human Rights Week, 2017

By the President of the United States of America

A Proclamation

Our great country was forged in the fires of a revolution to overthrow the rule of a tyrant, by a free people who understood the fundamental truth that liberty is best secured when the state's power is carefully limited. From the Declaration of Independence, to the Constitution, and through the Bill of Rights, our country and our people have always known the true, God-given nature of liberty and the ability of law to safeguard it against the state. For 226 years, the final piece of this freedom-sustaining bulwark—the Bill of Rights—has formed the bedrock of the constitutional protections every American holds dear as their birthright.

On Bill of Rights Day, we recognize the importance of the first 10 Amendments to our Constitution to protecting our liberty and freedom against the inevitable encroachment of government. Our Founding Fathers understood the threat of expansive, omnipresent government. From the beginning of our republic, therefore, they endeavored to enhance the Constitution with a bill of rights, a specific enumeration of fundamental rights that would prevail even against a future government inclined to abuse the power it has over the lives of citizens.

On June 8, 1789, James Madison, originally skeptical of the need for a bill of rights, introduced in the Congress several amendments to the Constitution that would eventually form the Bill of Rights. During the ensuing debates, Madison told the Congress that because “all power is subject to abuse” it was worth taking steps to ensure that such abuse “may be guarded against in a more secure manner.” Many of the rights set forth in the amendments Madison introduced that day are quite familiar to us as Americans: the right to worship as we please; the right to speak our minds and consciences; the right to firearms to protect ourselves and our loved ones; the right to be free from unwarranted government searches and seizures; the right to a jury of our fellow citizens when accused of legal wrongdoing. Others—like the right to object to housing troops in our homes during peacetime—are often thought of as relics of a bygone era. Regardless of their familiarity or applicability to our daily lives, however, each clause of the Bill of Rights addresses profound and real abuses the Founders faced and each is crafted and locked into law to protect us and future generations from their repetition.

Since its adoption, the reach of the Bill of Rights has spread far beyond America's shores. As George Washington rightfully said: “Liberty, when it begins to take root, is a plant of rapid growth.” For example, in the wake of the devastation of World War II, the spirit of the Bill of Rights inspired the United Nations General Assembly to adopt the Universal Declaration of Human Rights in 1948. Just like the Bill of Rights, the Universal Declaration of Human Rights is grounded in the recognition that just governments must respect the fundamental liberty and dignity of their people. By enumerating core rights that should be immune from government encroachment, both the Bill of Rights and the Universal Declaration of Human Rights have helped fuel remarkable prosperity and achievement around the world.

During Human Rights Day, Bill of Rights Day, and Human Rights Week, we rededicate ourselves to steadfastly and faithfully defending the Bill of Rights and human rights. Our God-given, fundamental rights are soon overcome if not safeguarded by the people. We, therefore, also reflect upon the many individuals who are unable to enjoy the God-given rights that we as Americans know are secure. We remember those suffering under the yolk of authoritarianism and extremism for doing nothing more than standing up to injustice or daring to profess or practice their religion, and we acknowledge those imprisoned or in peril simply because of their political views or their sex.

NOW, THEREFORE, I, DONALD J. TRUMP, President of the United States of America, by virtue of the authority vested in me by the Constitution and the laws of the United States, do hereby proclaim December 10, 2017, as Human Rights Day; December 15, 2017, as Bill of Rights Day; and the week beginning December 10, 2017, as Human Rights Week. I call upon the people of the United States to mark this observance with appropriate ceremonies and activities.

IN WITNESS WHEREOF, I have hereunto set my hand this eighth day of December, in the year of our Lord two thousand seventeen, and of the Independence of the United States of America the two hundred and forty-second.

[FR Doc. 2017-27033

Filed 12-12-17; 11:15 am]

Billing code 3295-F8-P